DEPARTMENT OF ENERGY

Federal Energy Regulatory Commission

[Docket Nos. RP00-585-002 and RP00-586-001]

Vector Pipeline L.P.; Notice of Compliance Filing

July 18, 2002.

Take notice that on July 12, 2002, Vector Pipeline L.P. (Vector), tendered for filing as part of its FERC Gas Tariff, Original Volume No. 1, the tariff sheets listed on Appendix A to the filing, with an effective date of August 1, 2002.

Vector states that the filing is being made in compliance with the requirements in the Commission's June 17, 2002 order.

Vector states that copies of the filing has been served on each affected customers, interested state commissions, and all persons on the official service list.

Any person desiring to protest said filing should file a protest with the Federal Energy Regulatory Commission, 888 First Street, NE., Washington, DC 20426, in accordance with Section 385.211 of the Commission's Rules and Regulations. All such protests must be filed on or before July 25, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18688 Filed 7-23-02; 8:45 am]

BILLING CODE 6717-01-P